DEPARTMENT OF DEFENSE

Department of the Air Force

32 CFR Part 818

Personal Financial Responsibility

AGENCY: Department of the Air Force, DoD.

ACTION: Final rule, removal.

SUMMARY: The Department of the Air Force is amending the Code of Federal Regulations (CFR) by removing its rule on Personal Financial Responsibility. This rule is removed, as the current information contained in it does not reflect current policy of AFI 36-2906, January 1998.

EFFECTIVE DATE: January 1, 2001.

FOR FURTHER INFORMATION CONTACT: MSgt Pamela Martin, HQ AFPC/DPSFM, 550 C Street West, Suite 37, Randolph Air Force Base, Texas, 78148-4737, 210-565-3415.

List of Subjects in 32 CFR Part 818

Alimony, Child support, Claims, Credit, Military personnel.

PART 818—[REMOVED]

Accordingly, and under the authority of 10 U.S. C. 8013, 15 U.S.C. 1073, 42 U.S.C. 659, 660, 665, 32 CFR, Chapter VII is amended by removing Part 818.

Janet A. Long,
Air Force Federal Register Liaison Officer.

[FR Doc. 00-32949 Filed 12-26-00; 8:45 am]

BILLING CODE 5001-05-P